DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Mandatory Shrimp Vessel and Gear Characterization Survey.

OMB Control Number: 0648-0542.

Form Number(s): None.

Type of Request: Regular submission.

Burden Hours: 667.

Number of Respondents: 2,000.

Average Hours per Response: 20 minutes.

Needs and Uses: Census-level information on fishing vessel and gear characteristics in the Gulf of Mexico Exclusive Economic Zone (EEZ) shrimp fishery are needed as supplemental information necessary to conduct economic, social, and biological analyses that will improve fishery management decision-making in this fishery; ensure that national goals, objectives, and requirements of the Magnuson-Stevens Fishery Conservation and Management Act (MFCMA, 16 U.S.C. 1801 et seq.), National Environmental Policy Act (NEPA), Regulatory Flexibility Act (RFA) and Executive Order (E.O.) 12866 are met; and quantify achievement of the performance measures in the National Marine Fisheries Service's Strategic Operating Plans. This information is vital in assessing the economic, social, and biological effects of fishery management decisions and regulations on individual shrimp fishing enterprises, fishing communities, and the nation as a whole.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 8, 2009.
Gwellnar Banks,
Management Analyst, Office of the Chief Information Officer.

[FR Doc. E9-13764 Filed 6-11-09; 8:45 am]

BILLING CODE 3510-22-P